DEPARTMENT OF THE INTERIOR

Fish and Wildlife Service

50 CFR Part 17

[4500030115]

Endangered and Threatened Wildlife and Plants; 90-Day Findings on 25 Petitions

AGENCY: Fish and Wildlife Service, Interior.

ACTION: Notice of petition findings and initiation of status reviews.

SUMMARY: We, the U.S. Fish and Wildlife Service (Service), announce 90-day findings on various petitions to list, reclassify, or delist fish, wildlife, or plants under the Endangered Species Act of 1973, as amended (Act). Based on our review, we find that two petitions do not present substantial scientific or commercial information indicating that the petitioned actions may be warranted, and we are not initiating status reviews in response to these petitions. We refer to these as “not-substantial petition findings.”

We also find that 23 petitions present substantial scientific or commercial information indicating that the petitioned actions may be warranted. Therefore, with the publication of this notice, we are initiating a review of the status of these species to determine if the petitioned actions are warranted. To ensure that these status reviews are comprehensive, we are requesting scientific and commercial data and other information regarding these species. Based on the status reviews, we will issue 12-month findings on the petitions, which will address whether the petitioned action is warranted, as provided in section 4(b)(3)(B) of the Act.

DATES: To allow us adequate time to conduct the status reviews, we request that we receive information no later than November 17, 2015. Information submitted electronically using the Federal eRulemaking Portal (see ADDRESSES, below) must be received by 11:59 p.m. Eastern Time on the closing date.

ADDRESSES: Not-substantial petition findings: The not-substantial petition findings announced in this document are available on http://www.regulations.gov under the appropriate docket number (see Table 2, below). Supporting information in preparing these findings is available for public inspection, by appointment, during normal business hours by contacting the appropriate person, as specified under FOR FURTHER INFORMATION CONTACT.

Status reviews: You may submit information on species for which a status review is being initiated by one of the following methods:

(1) Electronically: Go to the Federal eRulemaking Portal: http://www.regulations.gov. In the Search box, enter the appropriate docket number (see Table 1, below). You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail or hand-delivery to: Public Comments Processing, Attn: [Insert appropriate docket number; see Table 1, below]; U.S. Fish and Wildlife Service, MS: BPHC, 5275 Leesburg Pike; Falls Church, VA 22041-3803.

We request that you send information only by the methods described above. We will post all information received on http://www.regulations.gov. This generally means that we will post any personal information you provide us (see Request for Information for Status Reviews, below, for more details).

Table 1—List of Substantial Findings for Which a Status Review Is Being Initiated
Common name | Docket No. | URL to docket in regs.gov
Blue Calamintha bee | FWS-R4-ES-2015-0077 | http://www.regulations.gov/#!docketDetail;D=FWS-R4-ES-2015-0077.
California spotted owl | FWS-R8-ES-2015-0139 | http://www.regulations.gov/#!docketDetail;D=FWS-R8-ES-2015-0139.
Cascade torrent salamander | FWS-R1-ES-2015-0080 | http://www.regulations.gov/#!docketDetail;D=FWS-R1-ES-2015-0080.
Columbia torrent salamander | FWS-R1-ES-2015-0083 | http://www.regulations.gov/#!docketDetail;D=FWS-R1-ES-2015-0083.
Florida pine snake | FWS-R4-ES-2015-0086 | http://www.regulations.gov/#!docketDetail;D=FWS-R4-ES-2015-0086.
Inyo Mountains salamander | FWS-R8-ES-2015-0092 | http://www.regulations.gov/#!docketDetail;D=FWS-R8-ES-2015-0092.
Kern Plateau salamander | FWS-R8-ES-2015-0093 | http://www.regulations.gov/#!docketDetail;D=FWS-R8-ES-2015-0093.
Lesser slender salamander | FWS-R8-ES-2015-0097 | http://www.regulations.gov/#!docketDetail;D=FWS-R8-ES-2015-0097.
Limestone salamander | FWS-R8-ES-2015-0099 | http://www.regulations.gov/#!docketDetail;D=FWS-R8-ES-2015-0099.
Northern bog lemming | FWS-R5-ES-2015-0103 | http://www.regulations.gov/#!docketDetail;D=FWS-R5-ES-2015-0103.
Panamint alligator lizard | FWS-R8-ES-2015-0105 | http://www.regulations.gov/#!docketDetail;D=FWS-R8-ES-2015-0105.
Peaks of Otter salamander | FWS-R5-ES-2015-0106 | http://www.regulations.gov/#!docketDetail;D=FWS-R5-ES-2015-0106.
Regal fritillary | FWS-R6-ES-2015-0078 | http://www.regulations.gov/#!docketDetail;D=FWS-R6-ES-2015-0078.
Rusty patched bumble bee | FWS-R3-ES-2015-0112 | http://www.regulations.gov/#!docketDetail;D=FWS-R3-ES-2015-0112.
Shasta salamander | FWS-R8-ES-2015-0115 | http://www.regulations.gov/#!docketDetail;D=FWS-R8-ES-2015-0115.
Short-tailed snake | FWS-R4-ES-2015-0116 | http://www.regulations.gov/#!docketDetail;D=FWS-R4-ES-2015-0116.
Southern rubber boa | FWS-R8-ES-2015-0119 | http://www.regulations.gov/#!docketDetail;D=FWS-R8-ES-2015-0119.
Tinian monarch | FWS-R1-ES-2015-0118 | http://www.regulations.gov/#!docketDetail;D=FWS-R1-ES-2015-0118.
Tricolored blackbird | FWS-R8-ES-2015-0138 | http://www.regulations.gov/#!docketDetail;D=FWS-R8-ES-2015-0138.
Tufted puffin | FWS-R1-ES-2015-0108 | http://www.regulations.gov/#!docketDetail;D=FWS-R1-ES-2015-0108.
Virgin River spinedace | FWS-R6-ES-2015-0121 | http://www.regulations.gov/#!docketDetail;D=FWS-R6-ES-2015-0121.
Wood turtle | FWS-R5-ES-2015-0122 | http://www.regulations.gov/#!docketDetail;D=FWS-R5-ES-2015-0122.
Yuman desert fringe-toed lizard | FWS-R2-ES-2015-0124 | http://www.regulations.gov/#!docketDetail;D=FWS-R2-ES-2015-0124.

Table 2—List of Not Substantial Findings
Common name | Docket No. | URL to docket in regs.gov
Cahaba pebblesnail | FWS-R4-ES-2015-0079 | http://www.regulations.gov/#!docketDetail;D=FWS-R4-ES-2015-0079.
Stephens' kangaroo rat | FWS-R8-ES-2015-0140 | http://www.regulations.gov/#!docketDetail;D=FWS-R8-ES-2015-0140.

FOR FURTHER INFORMATION CONTACT:

Common name | Contact person
Blue Calamintha bee | Andreas Moshogianis, 404-679-7119.
Cahaba pebblesnail | Robert Tawes, 404-679-7142.
California spotted owl | Scott Flaherty, 916-978-6156.
Cascade torrent salamander | Paul Henson, 503-231-6179.
Columbia torrent salamander | Eric Rickerson, 360 753-9440.
Florida pine snake | Andreas Moshogianis, 404-679-7119.
Inyo Mountains salamander | Ted Koch, 775-861-6300.
Kern Plateau salamander | Jennifer Norris, 916-414-6600.
Lesser slender salamander | Steven Henry, 805-644-1766.
Limestone salamander | Jennifer Norris, 916-414-6600.
Northern bog lemming | Krishna Gifford, 413-253-8619.
Panamint alligator lizard | Mendel Stewart, 760-431-9440.
Peaks of Otter salamander | Roberta Hylton, 276-623-1233, ext. 22.
Regal fritillary | Justin Shoemaker, 309-757-5800, ext. 214.
Rusty patched bumble bee | Laura Ragan, 612-713-5157.
Shasta salamander | Jennifer Norris, 916-414-6600.
Short-tailed snake | Andreas Moshogianis, 404-679-7119.
Southern rubber boa | Mendel Stewart, 760-431-9440.
Stephens' kangaroo rat | Bradd Bridges, 760-431-9440, ext. 221.
Tinian monarch | Kristi Young, 808-792-9400.
Tricolored blackbird | Jennifer Norris, 916-414-6600.
Tufted puffin | Eric Rickerson, 360 753-9440.
Virgin River spinedace | Justin Shoemaker, 309-757-5800, ext. 214.
Wood turtle | Wende Mahaney, 207-866-3344.
Yuman desert fringe-toed lizard | Michelle Shaughnessy, 505-248-6920.

If you use a telecommunications device for the deaf (TDD), please call the Federal Information Relay Service (FIRS) at 800-877-8339.

SUPPLEMENTARY INFORMATION:

Request for Information for Status Reviews

When we make a finding that a petition presents substantial information indicating that listing, reclassification, or delisting a species may be warranted, we are required to promptly review the status of the species (status review). For the status review to be complete and based on the best available scientific and commercial information, we request information on these species from governmental agencies, Native American Tribes, the scientific community, industry, and any other interested parties. We seek information on:

(1) The species' biology, range, and population trends, including:

(a) Habitat requirements;

(b) Genetics and taxonomy;

(c) Historical and current range, including distribution patterns;

(d) Historical and current population levels, and current and projected trends; and

(e) Past and ongoing conservation measures for the species, its habitat, or both.

(2) The factors that are the basis for making a listing, reclassification, or delisting determination for a species under section 4(a) of the Act (16 U.S.C. 1531 et seq.), which are:

(a) The present or threatened destruction, modification, or curtailment of its habitat or range (Factor A);

(b) Overutilization for commercial, recreational, scientific, or educational purposes (Factor B);

(c) Disease or predation (Factor C);

(d) The inadequacy of existing regulatory mechanisms (Factor D); or

(e) Other natural or manmade factors affecting its continued existence (Factor E).

(3) The potential effects of climate change on the species and its habitat.

If, after the status review, we determine that listing is warranted, we will propose critical habitat (see definition in section 3(5)(A) of the Act) for domestic (U.S.) species under section 4 of the Act, to the maximum extent prudent and determinable at the time we propose to list the species. Therefore, we also request data and information for the species listed in Table 1 on:

(1) What may constitute “physical or biological features essential to the conservation of the species,” within the geographical range occupied by the species;

(2) Where these features are currently found;

(3) Whether any of these features may require special management considerations or protection;

(4) Specific areas outside the geographical area occupied by the species that are “essential for the conservation of the species”; and

(5) What, if any, critical habitat you think we should propose for designation if the species is proposed for listing, and why such habitat meets the requirements of section 4 of the Act.

Please include sufficient information with your submission (such as scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning these status reviews by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing these 90-day findings is available for you to review at http://www.regulations.gov, or you may make an appointment during normal business hours at the appropriate lead U.S. Fish and Wildlife Service Field Office (contact the person listed under FOR FURTHER INFORMATION CONTACT).

Background

Section 4(b)(3)(A) of the Act requires that we make a finding on whether a petition to list, delist, or reclassify a species presents substantial scientific or commercial information indicating that the petitioned action may be warranted. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a review of the status of the species, which will be subsequently summarized in our 12-month finding.

Section 4 of the Act (16 U.S.C. 1533) and its implementing regulations at 50 CFR 424 set forth the procedures for adding a species to, or removing a species from, the Federal Lists of Endangered and Threatened Wildlife and Plants. A species may be determined to be an endangered or threatened species due to one or more of the five factors described in section 4(a)(1) of the Act (see Request for Information for Status Reviews, above).

In considering what factors might constitute threats, we must look beyond the exposure of the species to a factor to evaluate whether the species may respond to the factor in a way that causes actual impacts to the species. If there is exposure to a factor and the species responds negatively, the factor may be a threat and, during the subsequent status review, we attempt to determine how significant a threat it is. The threat is significant if it drives, or contributes to, the risk of extinction of the species such that the species may warrant listing as endangered or threatened as those terms are defined in the Act. However, the identification of factors that could affect a species negatively may not be sufficient to compel a finding that the information in the petition and our files is substantial. The information must include evidence sufficient to suggest that these factors may be operative threats that act on the species to the point that the species may meet the definition of an endangered or threatened species under the Act.

Evaluation of a Petition To List the Blue Calamintha Bee as an Endangered or Threatened Species Under the Act

Additional information regarding our review of this petition can be found as an appendix at http://www.regulations.gov under Docket No. FWS-R4-ES-2015-0077 under the Supporting Documents section.

Species and Range

Blue Calamintha bee (Osmia calaminthae); Florida

Petition History

On February 5, 2015, we received a petition dated February 5, 2015, from Defenders of Wildlife requesting that the blue Calamintha bee be listed as endangered or threatened and that critical habitat be designated for this species under the Act. The petition clearly identified itself as such and included the requisite identification information for the petitioner, required at 50 CFR 424.14(a). This finding addresses the petition.

Finding

Based on our review of the petition and sources cited in the petition, we find that the petition presents substantial scientific or commercial information indicating that the petitioned action may be warranted for the blue Calamintha bee (Osmia calaminthae) based on Factors A, C, and E. However, during our status review, we will thoroughly evaluate all potential threats to the species. Thus, for this species, the Service requests information on the five listing factors under section 4(a)(1) of the Act, including the factors identified in this finding (see Request for Information for Status Reviews, above).

Evaluation of a Petition To List the Cahaba Pebblesnail as an Endangered Species Under the Act

Additional information regarding our review of this petition can be found as an appendix at http://www.regulations.gov under Docket No. FWS-R4-ES-2015-0079 under the Supporting Documents section.

Species and Range

Cahaba pebblesnail (Clappia cahabensis); Alabama

Petition History

On January 6, 2015, we received a petition dated December 18, 2014, from the Institute for Wildlife Protection, requesting that the Cahaba pebblesnail be listed as endangered under the Act. The petition further requested that we emergency list the species. The petition clearly identified itself as such and included the requisite identification information for the petitioner, required at 50 CFR 424.14(a). In a February 18, 2015, letter to the petitioner, we responded that we reviewed the information presented in the petition and did not find that the petition presented information that an emergency listing is warranted. This finding addresses the petition to list the species as endangered.

Finding

Based on our review of the petition, sources cited in the petition, and information available in our files at the time the petition was received, we find that the petition does not provide substantial scientific or commercial information indicating that listing the Cahaba pebblesnail (Clappia cahabensis) as endangered may be warranted. Because the petition does not present substantial information indicating that listing this species as endangered may be warranted, we are not initiating a status review in response to this petition. Our justification for this finding can be found as an appendix at http://www.regulations.gov under Docket No. FWS-R4-ES-2015-0079 under the “Supporting Documents” section. However, we ask that the public submit to us any new information that becomes available concerning the status of, or threats to, the Cahaba pebblesnail or its habitat at any time (see FOR FURTHER INFORMATION CONTACT).

Evaluation of a Petition To List the California Spotted Owl as an Endangered or Threatened Species Under the Act

Additional information regarding our review of this petition can be found as an appendix at http://www.regulations.gov under Docket No. FWS-R8-ES-2015-0139 under the Supporting Documents section.

Species and Range

California spotted owl (Strix occidentalis occidentalis); California

Petition History

On January 9, 2015, we received a petition dated December 22, 2014, from the Wild Nature Institute and the John Muir Project of the Earth Island Institute, requesting that the California spotted owl be listed as endangered or threatened and that we designate critical habitat under the Act. The petition clearly identified itself as such and included the requisite identification information for the petitioner, required at 50 CFR 424.14(a). In a February 12, 2015, letter to the petitioners, we responded that we reviewed the information presented in the petition and did not find that the petition presented information that an emergency listing is warranted. This finding addresses this petition.

Finding

Based on our review of the petitions and sources cited in the petitions, we find that the petitions present substantial scientific or commercial information indicating that the petitioned action may be warranted for the California spotted owl (Strix occidentalis occidentalis) based on Factors A, D, and E. However, during our status review, we will thoroughly evaluate all potential threats to the species. Thus, for this species, the Service requests information on the five listing factors under section 4(a)(1) of the Act, including the factors identified in this finding (see Request for Information for Status Reviews, above).

Second Petition To List the California Spotted Owl

We received another petition dated August 19, 2015, from Sierra Forest Legacy and Defenders of Wildlife, to list the California spotted owl as endangered, and requesting we designate critical habitat for the species. This finding serves to notify the petitioners that we have received their petition, and that, because we have made a substantial finding on the December 22, 2014, petition and are initiating a status review of the species, we will include the information they provided in our status review for the owl.

Evaluation of a Petition To List the Cascade Torrent Salamander as an Endangered or Threatened Species Under the Act

Additional information regarding our review of this petition can be found as an appendix at http://www.regulations.gov under Docket No. FWS-R1-ES-2015-0080 under the Supporting Documents section.

Species and Range

Cascade torrent salamander (Rhyacotriton cascadae); Washington and Oregon

Petition History

On July 11, 2012, we received a petition dated July 11, 2012, from the Center for Biological Diversity, requesting that 53 species of reptiles and amphibians, including the Cascade torrent salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the Cascade torrent salamander (Rhyacotriton cascadae) as endangered or threatened may be warranted based on Factors A and E. However, during our status review, we will thoroughly evaluate all potential threats to the species. Thus, for this species, the Service requests information on the five listing factors under section 4(a)(1) of the Act, including the factors identified in this finding (see Request for Information for Status Reviews, above).

Evaluation of a Petition To List the Columbia Torrent Salamander as an Endangered or Threatened Species Under the Act

Additional information regarding our review of this petition can be found as an appendix at http://www.regulations.gov under Docket No. FWS-R1-ES-2015-0083 under the Supporting Documents section.

Species and Range

Columbia torrent salamander (Rhyacotriton kezeri); Oregon and Washington

Petition History

On July 11, 2012, we received a petition dated July 11, 2012, from the Center for Biological Diversity, requesting that 53 amphibians and reptiles, including the Columbia torrent salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the Columbia torrent salamander (Rhyacotriton kezeri) as endangered or threatened may be warranted based on Factor A. However, during our status review, we will thoroughly evaluate all potential threats to the species. Thus, for this species, the Service requests information on the five listing factors under section 4(a)(1) of the Act, including the factor identified in this finding (see Request for Information for Status Reviews, above).

Evaluation of a Petition To List the Florida Pine Snake as an Endangered or Threatened Species Under the Act

Additional information regarding our review of this petition can be found as an appendix at http://www.regulations.gov under Docket No. FWS-R4-ES-2015-0086 under the Supporting Documents section.

Species and Range

Florida pine snake (Pituophis melanoleucus mugitus); Alabama, Florida, Georgia, South Carolina

Petition History

On July 11, 2012, we received a petition dated July 11, 2012, from the Center for Biological Diversity, requesting that 53 species of reptiles and amphibians, including the Florida pine snake, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Florida pine snake (Pituophis melanoleucus mugitus) for listing based on Factors A, C, and E. However, during our status review, we will thoroughly evaluate all potential threats to the species. Thus, for this species, the Service requests information on the five listing factors under section 4(a)(1) of the Act, including the factors identified in this finding (see Request for Information for Status Reviews, above).

Evaluation of a Petition To List the Inyo Mountains Salamander as an Endangered or Threatened Species Under the Act

Additional information regarding our review of this petition can be found as an appendix at http://www.regulations.gov under Docket No. FWS-R8-ES-2015-0092 under the Supporting Documents section.

Species and Range

Inyo Mountains salamander (Batrachoseps campi); California.

Petition History

On July 11, 2012, we received a petition dated July 11, 2012, from the Center for Biological Diversity, requesting that 53 species of reptiles and amphibians, including the Inyo Mountains salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Inyo Mountains salamander (Batrachoseps campi) based on Factor A. However, during our status review, we will thoroughly evaluate all potential threats to the species. Thus, for this species, the Service requests information on the five listing factors under section 4(a)(1) of the Act, including the factor identified in this finding (see Request for Information for Status Reviews, above).

Evaluation of a Petition To List the Kern Plateau Salamander as an Endangered or Threatened Species Under the Act

Additional information regarding our review of this petition can be found as an appendix at http://www.regulations.gov under Docket No. FWS-R8-ES-2015-0093 under the Supporting Documents section.

Species and Range

Kern Plateau salamander (Batrachoseps robustus); California

Petition History

On July 11, 2012, we received a petition dated July 11, 2012, from the Center for Biological Diversity, requesting that 53 species of reptiles and amphibians, including the Kern Plateau salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Kern Plateau salamander (Batrachoseps robustus) based on Factor A. However, during our status review, we will thoroughly evaluate all potential threats to the species. Thus, for this species, the Service requests information on the five listing factors under section 4(a)(1) of the Act, including the factor identified in this finding (see Request for Information for Status Reviews, above).

Evaluation of a Petition To List the Lesser Slender Salamander as an Endangered or Threatened Species Under the Act

Additional information regarding our review of this petition can be found as an appendix at http://www.regulations.gov under Docket No. FWS-R8-ES-2015-0097 under the Supporting Documents section.

Species and Range

Lesser slender salamander (Batrachoseps minor); California

Petition History

On July 11, 2012, we received a petition dated July 11, 2012, from the Center for Biological Diversity, requesting that 53 species of reptiles and amphibians, including the lesser slender salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the lesser slender salamander (Batrachoseps minor) based on Factors A and E. However, during our status review, we will thoroughly evaluate all potential threats to the species. Thus, for this species, the Service requests information on the five listing factors under section 4(a)(1) of the Act, including the factors identified in this finding (see Request for Information for Status Reviews, above).

Evaluation of a Petition To List the Limestone Salamander as an Endangered or Threatened Species Under the Act

Additional information regarding our review of this petition can be found as an appendix at http://www.regulations.gov under Docket No. FWS-R8-ES-2015-0099 under the Supporting Documents section.

Species and Range

Limestone salamander (Hydromantes brunus); California

Petition History

On July 11, 2012, we received a petition dated July 11, 2012, from the Center for Biological Diversity, requesting that 53 species of reptiles and amphibians, including the limestone salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the limestone salamander (Hydromantes brunus) based on Factor A. However, during our status review, we will thoroughly evaluate all potential threats to the species. Thus, for this species, the Service requests information on the five listing factors under section 4(a)(1) of the Act, including the factor identified in this finding (see Request for Information for Status Reviews, above).

Evaluation of a Petition To List the Northern Bog Lemming as an Endangered or Threatened Species Under the Act

Additional information regarding our review of this petition can be found as an appendix at http://www.regulations.gov under Docket No. FWS-R5-ES-2015-0103 under the Supporting Documents section.

Species and Range

Northern bog lemming (Synaptomys borealis); Alaska, Washington, Idaho, Maine, Montana, Minnesota, New Hampshire, and New York

Petition History

On September 30, 2014, we received a petition dated September 29, 2014, from WildEarth Guardians requesting that the northern bog lemming be listed as endangered or threatened and that critical habitat be designated for this species under the Act. The petitioner requested:

• Listing of the full species;

• Listing of the individual subspecies (in particular, the disjunct population of S. b. sphagnicola south of the St. Lawrence River in Maine and New Hampshire); or

• Listing of the U.S. distinct population segment (DPS) of S. b. chapmani.

The petition clearly identified itself as such and included the requisite identification information for the petitioner, required at 50 CFR 424.14(a). In an October 3, 2014, letter to the petitioner, we responded that we reviewed the information presented in the petition and did not find that the petition presented information that an emergency listing is warranted. This finding addresses the petition.

Finding

Based on our review of the petition and sources cited in the petition, we find that the petition presents substantial scientific or commercial information indicating that the petitioned action may be warranted for the northern bog lemming (Synaptomys borealis) based on Factors A and E. However, during our status review, we will thoroughly evaluate all potential threats to the species. Thus, for this species, the Service requests information on the five listing factors under section 4(a)(1) of the Act, including the factors identified in this finding (see Request for Information for Status Reviews, above).

Evaluation of a Petition To List the Panamint Alligator Lizard as an Endangered or Threatened Species Under the Act

Additional information regarding our review of this petition can be found as an appendix at http://www.regulations.gov under Docket No. FWS-R8-ES-2015-0105 under the Supporting Documents section.

Species and Range

Panamint alligator lizard (Elgaria panamintina); California

Petition History

On July 11, 2012, we received a petition dated July 11, 2012, from the Center for Biological Diversity, requesting that 53 species of reptiles and amphibians, including the Panamint alligator lizard, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Panamint alligator lizard (Elgaria panamintina) based on Factors A and B. However, during our status review, we will thoroughly evaluate all potential threats to the species. Thus, for this species, the Service requests information on the five listing factors under section 4(a)(1) of the Act, including the factors identified in this finding (see Request for Information for Status Reviews, above).

Evaluation of a Petition To List the Peaks of Otter Salamander as an Endangered or Threatened Species Under the Act

Additional information regarding our review of this petition can be found as an appendix at http://www.regulations.gov under Docket No. FWS-R5-ES-2015-0106 under the Supporting Documents section.

Species and Range

Peaks of Otter salamander (Plethodon hubrichti); Virginia

Petition History

On July 11, 2012, we received a petition dated July 11, 2012, from the Center for Biological Diversity, requesting that 53 species of reptiles and amphibians, including the Peaks of Otter salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that the petitioned action may be warranted for the Peaks of Otter salamander (Plethodon hubrichti) based on Factors A and E. However, during our status review, we will thoroughly evaluate all potential threats to the species. Thus, for this species, the Service requests information on the five listing factors under section 4(a)(1) of the Act, including the factors identified in this finding (see Request for Information for Status Reviews, above).

Evaluation of a Petition To List the Regal Fritillary as an Endangered or Threatened Species Under the Act

Additional information regarding our review of this petition can be found as an appendix at http://www.regulations.gov under Docket No. FWS-R6-ES-2015-0078 under the Supporting Documents section.

Species and Range

Regal fritillary (Speyeria idalia); Kansas, Arkansas, North Carolina, Missouri, Nebraska, Maine, New Hampshire, Vermont, Massachusetts, Connecticut, Rhode Island, New York, Pennsylvania, New Jersey, Delaware, Maryland, Virginia, and West Virginia

Petition History

On April 24, 2013, we received a petition dated April 19, 2013, from WildEarth Guardians, requesting that the regal fritillary be listed as endangered or threatened under the Act. The petition clearly identified itself as such and included the requisite identification information for the petitioner, required at 50 CFR 424.14(a). This finding addresses the petition.

Finding

Based on our review of the petition and sources cited in the petition, we find that the petition presents substantial scientific or commercial information indicating that the petitioned action may be warranted for the regal fritillary (Speyeria idalia) based on Factors A and E. However, during our status review, we will thoroughly evaluate all potential threats to the species. Thus, for this species, the Service requests information on the five listing factors under section 4(a)(1) of the Act, including the factors identified in this finding (see Request for Information for Status Reviews, above).

Evaluation of a Petition To List the Rusty Patched Bumble Bee as an Endangered Species Under the Act

Additional information regarding our review of this petition can be found as an appendix at http://www.regulations.gov under Docket No. FWS-R3-ES-2015-0112 under the Supporting Documents section.

Species and Range

Rusty patched bumble bee (Bombus affinis); Maine, New Hampshire, Vermont, Massachusetts, Rhode Island, Connecticut, New York, Pennsylvania, Delaware, Maryland, Virginia, West Virginia, North Carolina, South Carolina, Tennessee, Ohio, Kentucky, Indiana, Illinois, Iowa, Michigan, Wisconsin, Minnesota, North Dakota, South Dakota, and Ontario, Canada

Petition History

On February 5, 2013, the U.S. Fish and Wildlife Service received a petition dated January 31, 2013, from the Xerces Society for Invertebrate Conservation (Xerces) requesting that the rusty patched bumble bee be listed under the Act as an endangered species. The petition clearly identified itself as such and included the requisite identification information for the petitioner, required at 50 CFR 424.14(a). On February 14, 2014, Xerces provided the Service with written notice of their intent to sue for failure to issue a petition finding. Xerces filed a complaint on May 13, 2014, against the Service for failure to issue a timely 90-day finding. The Service and Xerces reached a settlement to deliver a 90-day petition finding to the Federal Register no later than September 30, 2015. This finding addresses the petition.

Finding

Based on our review of the petition and sources cited in the petition, we find that the petition presents substantial scientific or commercial information indicating that the petitioned action may be warranted for the rusty patched bumble bee (Bombus affinis) based on Factors A, C, and E. However, during our status review, we will thoroughly evaluate all potential threats to the species. Thus, for this species, the Service requests information on the five listing factors under section 4(a)(1) of the Act, including the factors identified in this finding (see Request for Information for Status Reviews, above).

Evaluation of a Petition To List the Shasta Salamander as an Endangered or Threatened Species Under the Act

Additional information regarding our review of this petition can be found as an appendix at http://www.regulations.gov under Docket No. FWS-R8-ES-2015-0115 under the Supporting Documents section.

Species and Range

Shasta salamander (Hydromantes shastae); California

Petition History

On July 11, 2012, we received a petition dated July 11, 2012, from the Center for Biological Diversity, requesting that 53 species of reptiles and amphibians, including the Shasta salamander, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the Shasta salamander (Hydromantes shastae) as endangered or threatened may be warranted based on Factors A and E. However, during our status review, we will thoroughly evaluate all potential threats to the species. Thus, for this species, the Service requests information on the five listing factors under section 4(a)(1) of the Act, including the factors identified in this finding (see Request for Information for Status Reviews, above).

Evaluation of a Petition To List the Short-Tailed Snake as an Endangered or Threatened Species Under the Act

Additional information regarding our review of this petition can be found as an appendix at http://www.regulations.gov under Docket No. FWS-R4-ES-2015-0116 under the Supporting Documents section.

Species and Range

Short-tailed snake (Stilosoma extenuatum); Florida

Petition History

On July 11, 2012, we received a petition dated July 11, 2012, from the Center for Biological Diversity, requesting that 53 species of reptiles and amphibians, including the short-tailed snake, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the short-tailed snake (Stilosoma extenuatum) as endangered or threatened may be warranted based on Factors A, C, and E. However, during our status review, we will thoroughly evaluate all potential threats to the species. Thus, for this species, the Service requests information on the five listing factors under section 4(a)(1) of the Act, including the factors identified in this finding (see Request for Information for Status Reviews, above).

Evaluation of a Petition To List the Southern Rubber Boa as an Endangered or Threatened Species Under the Act

Additional information regarding our review of this petition can be found as an appendix at http://www.regulations.gov under Docket No. FWS-R8-ES-2015-0119 under the Supporting Documents section.

Species and Range

Southern rubber boa (Charina umbratica or Charina bottae umbratica); California

Petition History

On July 11, 2012, we received a petition dated July 11, 2012, from the Center for Biological Diversity, requesting that 53 species of reptiles and amphibians, including the southern rubber boa, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the southern rubber boa (Charina umbratica or Charina bottae umbratica) as endangered or threatened may be warranted based on Factors A and E. However, during our status review, we will thoroughly evaluate all potential threats to the species. Thus, for this species, the Service requests information on the five listing factors under section 4(a)(1) of the Act, including the factors identified in this finding (see Request for Information for Status Reviews, above).

Evaluation of a Petition To Remove the Stephens' Kangaroo Rat From the Federal List of Endangered and Threatened Wildlife

Additional information regarding our review of this petition can be found as an appendix at http://www.regulations.gov under Docket No. FWS-R8-ES-2015-0140 under the Supporting Documents section.

Species and Range

Stephens' kangaroo rat (Dipodomys stephensi); California

Petition History

On November 10, 2014, we received a petition dated November 7, 2014, from the Riverside County Farm Bureau and the Center for Environmental Science, Accuracy and Responsibility, requesting that Stephens' kangaroo rat, which is listed as an endangered species, be removed from the Federal List of Endangered and Threatened Wildlife (“delisted”), based on a new analysis of the rat's dispersal ability. The petition clearly identified itself as such and included the requisite identification information for the petitioner, required at 50 CFR 424.14(a). This finding addresses the petition.

Finding

Based on our review of the petition and sources cited in the petition, we find that the petition does not present substantial scientific or commercial information indicating that the petitioned action may be warranted for the Stephens' kangaroo rat (Dipodomys stephensi). Because the petition does not present substantial information indicating that delisting the Stephens' kangaroo rat may be warranted, we are not initiating a status review in response to this petition. Our justification for this finding can be found as an appendix at http://www.regulations.gov under Docket No. FWS-R8-ES-2015-0140 under the “Supporting Documents” section. However, we ask that the public submit to us any new information that becomes available concerning the status of, or threats to, this species or its habitat at any time (see FOR FURTHER INFORMATION CONTACT).

Evaluation of a Petition To List the Tinian Monarch as an Endangered or Threatened Species Under the Act

Additional information regarding our review of this petition can be found as an appendix at http://www.regulations.gov under Docket No. FWS-R1-ES-2015-0118 under the Supporting Documents section.

Species and Range

Tinian monarch (Monarcha takatsukasae); Tinian Island (an island in the Commonwealth of Northern Mariana Islands)

Petition History

On December 12, 2013, we received a petition dated December 11, 2013, from the Center for Biological Diversity, requesting that the Tinian monarch be listed as endangered or threatened under the Act. The petition clearly identified itself as such and included the requisite identification information for the petitioner, required at 50 CFR 424.14(a). In a January 29, 2014, letter to the petitioner, we responded that we reviewed the information presented in the petition and did not find that the petition presented information that an emergency listing is warranted. This finding addresses the petition.

Finding

Based on our review of the petition and sources cited in the petition, we find that the petition presents substantial scientific or commercial information indicating that the petitioned action may be warranted for the Tinian monarch (Monarcha takatsukasae) based on Factors A, C, and E. However, during our status review, we will thoroughly evaluate all potential threats to the species. Thus, for this species, the Service requests information on the five listing factors under section 4(a)(1) of the Act, including the factors identified in this finding (see Request for Information for Status Reviews, above).

Evaluation of a Petition To List the Tricolored Blackbird as an Endangered Species Under the Act

Additional information regarding our review of this petition can be found as an appendix at http://www.regulations.gov under Docket No. FWS-R8-ES-2015-0138 under the Supporting Documents section.

Species and Range

Tricolored blackbird (Agelaius tricolor); California, Oregon, Nevada, Washington (United States), and Baja California (Mexico)

Petition History

On February 5, 2015, we received a petition dated February 3, 2015, from the Center for Biological Diversity, requesting that the tricolored blackbird be listed as endangered under the Act. The petitioner also requested that critical habitat be designated for this species. The petition clearly identified itself as such and included the requisite identification information for the petitioner, required at 50 CFR 424.14(a). In a March 13, 2015, letter to the petitioner, we responded that we reviewed the information presented in the petition and did not find that the petition presented information that an emergency listing is warranted. This finding addresses the petition.

Finding

Based on our review of the petition and sources cited in the petition, we find that the petition presents substantial scientific or commercial information indicating that the petitioned action may be warranted for the tricolored blackbird (Agelaius tricolor) based on Factors A, C, D, and E. However, during our status review, we will thoroughly evaluate all potential threats to the species. Thus, for the tricolored blackbird, the Service requests information on the five listing factors under section 4(a)(1) of the Act, including the factors identified in this finding (see Request for Information for Status Reviews, above).

Evaluation of a Petition To List the U.S. Distinct Population Segment (DPS) of Tufted Puffin as an Endangered or Threatened Species Under the Act

Additional information regarding our review of this petition can be found as an appendix at http://www.regulations.gov under Docket No. FWS-R1-ES-2015-0108 under the Supporting Documents section.

Species and Range

Contiguous U.S. DPS of tufted puffin (Fratercula cirrhata); Washington, Oregon, California

Petition History

On February 14, 2014, we received a petition dated February 12, 2014, from Natural Resources Defense Council, requesting that the contiguous U.S. DPS of the tufted puffin be listed as endangered or threatened and that critical habitat be designated for this species under the Act. The petition clearly identified itself as such and included the requisite identification information for the petitioner, required at 50 CFR 424.14(a). This finding addresses the petition.

Finding

Based on our review of the petition and sources cited in the petition, we find that the petition presents substantial scientific or commercial information indicating that the petitioned action may be warranted for the contiguous U.S. DPS of tufted puffin (Fratercula cirrhata) based on Factors A, C, and E. However, during our status review, we will thoroughly evaluate all potential threats to the species. Thus, for this species, the Service requests information on the five listing factors under section 4(a)(1) of the Act, including the factors identified in this finding (see Request for Information for Status Reviews, above).

Evaluation of a Petition To List the Virgin River Spinedace as an Endangered or Threatened Species Under the Act

Additional information regarding our review of this petition can be found as an appendix at http://www.regulations.gov under Docket No. FWS-R6-ES-2015-0121 under the Supporting Documents section.

Species and Range

Virgin River spinedace (Lepidomeda mollispinis mollispinis); Arizona, Nevada, and Utah

Petition History

On November 20, 2012, we received a petition dated November 20, 2012, from the Center for Biological Diversity, requesting that the Virgin River spinedace be listed as endangered or threatened under the Act. The petition clearly identified itself as such and included the requisite identification information for the petitioner, required at 50 CFR 424.14(a). In a December 20, 2012, letter to the petitioner, we responded that we reviewed the information presented in the petition and did not find that the petition presented information that an emergency listing is warranted. This finding addresses the petition.

Finding

Based on our review of the petition and sources cited in the petition, we find that the petition presents substantial scientific or commercial information indicating that the petitioned action may be warranted for the Virgin River spinedace (Lepidomeda mollispinis mollispinis) based on Factors A, C, and E. However, during our status review, we will thoroughly evaluate all potential threats to the species. Thus, for this species, the Service requests information on the five listing factors under section 4(a)(1) of the Act, including the factors identified in this finding (see Request for Information for Status Reviews, above).

Evaluation of a Petition To List the Wood Turtle as an Endangered or Threatened Species Under the Act

Additional information regarding our review of this petition can be found as an appendix at http://www.regulations.gov under Docket No. FWS-R5-ES-2015-0122 under the Supporting Documents section.

Species and Range

Wood turtle (Glyptemys insculpta); Connecticut, Delaware, Iowa, Maine, Maryland, Massachusetts, Michigan, Minnesota, New Hampshire, New Jersey, New York, Ohio, Pennsylvania, Rhode Island, Vermont, Virginia, West Virginia, Wisconsin, and Canada

Petition History

On July 11, 2012, we received a petition dated July 11, 2012, from the Center for Biological Diversity, requesting that 53 species of reptiles and amphibians, including the wood turtle, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the wood turtle (Glyptemys insculpta) as endangered or threatened may be warranted based on Factors A, B, C, D, and E. Thus, for this species, the Service requests information on the five listing factors under section 4(a)(1) of the Act, including the factors identified in this finding (see Request for Information for Status Reviews, above).

Evaluation of a Petition To List the Yuman Desert Fringe-toed Lizard as an Endangered or Threatened Species Under the Act

Additional information regarding our review of this petition can be found as an appendix at http://www.regulations.gov under Docket No. FWS-R2-ES-2015-0124 under the Supporting Documents section.

Species and Range

Yuman desert fringe-toed lizard (Uma rufopunctata); Arizona (United States) and Sonora (Mexico)

Petition History

On July 11, 2012, we received a petition dated July 11, 2012, from the Center for Biological Diversity, requesting that 53 species of reptiles and amphibians, including the Yuman desert fringe-toed lizard, be listed as endangered or threatened and that critical habitat be designated for these species under the Act. The petition clearly identified itself as such and included the requisite identification information for the petitioner, required at 50 CFR 424.14(a). This finding addresses the petition.

Finding

Based on our review of the petition and sources cited in the petition, we find that the petition presents substantial scientific or commercial information indicating that listing the Yuman desert fringe-toed lizard (Uma rufopunctata) may be warranted based on Factors A and E. However, during our status review, we will thoroughly evaluate all potential threats to the species. Thus, for this species, the Service requests information on the five listing factors under section 4(a)(1) of the Act, including the factors identified in this finding (see Request for Information for Status Reviews, above).

Conclusion

On the basis of our evaluation of the information presented under section 4(b)(3)(A) of the Act, we have determined that the petitions summarized above for the Cahaba pebblesnail and Stephens' kangaroo rat do not present substantial scientific or commercial information indicating that the requested actions may be warranted. Therefore, we are not initiating status reviews for these species.

The petitions summarized above for the blue Calamintha bee, California spotted owl, Cascade torrent salamander, Columbia torrent salamander, Florida pine snake, Inyo Mountains salamander, Kern Plateau salamander, lesser slender salamander, limestone salamander, northern bog lemming, Panamint alligator lizard, Peaks of Otter salamander, regal fritillary, rusty patched bumble bee, Shasta salamander, short-tailed snake, southern rubber boa, Tinian monarch, tricolored blackbird, tufted puffin, Virgin River spinedace, wood turtle, and the Yuman desert fringe-toed lizard present substantial scientific or commercial information indicating that the requested actions may be warranted.

Because we have found that these petitions present substantial information indicating that the petitioned actions may be warranted, we are initiating status reviews to determine whether these actions under the Act are warranted. At the conclusion of the status reviews, we will issue a 12-month finding, in accordance with section 4(b)(3)(B) of the Act, as to whether or not the Service believes listing is warranted.

It is important to note that the “substantial information” standard for a 90-day finding differs from the Act's “best scientific and commercial data” standard that applies to a status review to determine whether a petitioned action is warranted. A 90-day finding does not constitute a status review under the Act. In a 12-month finding, we will determine whether a petitioned action is warranted after we have completed a thorough status review of the species, which is conducted following a substantial 90-day finding. Because the Act's standards for 90-day and 12-month findings are different, as described above, a substantial 90-day finding does not mean that the 12-month finding will result in a warranted finding.

References Cited

A complete list of references cited is available on the Internet at http://www.regulations.gov and upon request from the appropriate lead field offices (contact the person listed under FOR FURTHER INFORMATION CONTACT).

Authors

The primary authors of this notice are staff members of the Ecological Services Program, U.S. Fish and Wildlife Service.

Authority

The authority for these actions is the Endangered Species Act of 1973, as amended (16 U.S.C. 1531 et seq.).

Dated: August 31, 2015.
Stephen Guertin,
Acting Director, U.S. Fish and Wildlife Service.

[FR Doc. 2015-23315 Filed 9-17-15; 8:45 am]

BILLING CODE 4310-55-P